DEPARTMENT OF COMMERCE

International Trade Administration

[A-580-807]

Polyethylene Terephthalate Film, Sheet, and Strip from Korea; Postponement of Preliminary Results of Antidumping Duty Administrative Review

AGENCY: Import Administration, International Trade Administration, Department of Commerce.

ACTION: Notice of Extension of Time Limit.

SUMMARY: The Department of Commerce (the Department) is extending the time limit for the preliminary results of the administrative review of the antidumping duty order on polyethylene terephthalate film, sheet, and strip from Korea. The review covers three manufacturers/exporters of the subject merchandise and the period June 1, 1999 through May 31, 2000.

EFFECTIVE DATE: February 21, 2001.

FOR FURTHER INFORMATION CONTACT: Michael J. Heaney or Robert James, Office of AD/CVD Enforcement, Group III, Import Administration, International Trade Administration, U.S. Department of Commerce, 14th Street and Constitution Avenue, NW., Washington, DC 20230, telephone: (202) 482-4475 or 482-0649, respectively.

Postponement of Preliminary Results of Review

On July 31, 2000, the Department initiated this administrative review of the antidumping duty order on polyethylene terephthalate film, sheet, and strip from Korea. (65 FR 46687). The current deadline for the preliminary results is March 1, 2001. We determine that it is not practicable to complete this review within the original time frame. (See Memorandum to Joseph A. Spetrini dated February 12, 2001.)

Accordingly, we are extending the deadline for issuing the preliminary results of this review until no later than June 29, 2001, (i.e., 120 days) in accordance with section 751(a)(3)(A) of the Tariff Act of 1930, as amended. The deadline for issuing the final results of this review will be no later than 120 days from the publication of the preliminary results.

This extension is in accordance with section 751(a)(3)(A) of the Tariff Act of 1930, as amended (19 U.S.C. 1675 (a)(3)(A)).

Joseph A. Spetrini,
Deputy Assistant Secretary for AD/CVD Enforcement Group III.

[FR Doc. 01-4285 Filed 2-20-01; 8:45 am]

BILLING CODE 3510-DS-M